DEPARTMENT OF THE INTERIOR

Bureau of Land Management

[MT-039-1020-PK]

Cancellation of Notice of Public Meeting, Dakotas Resource Advisory Council Meeting

AGENCY: Bureau of Land Management, Interior.

ACTION: Notice of cancellation of public meeting.

SUMMARY: The U.S. Department of the Interior, Bureau of Land Management (BLM), Dakotas Resource Advisory Council scheduled for October 26 and 27, 2006, at the Bureau of Land Management and U.S. Forest Service Lands and Minerals Center at 99 23rd Avenue West, Dickinson, ND 58601, has been cancelled. A new meeting date and time will be rescheduled and published in the Federal Register.

FOR FURTHER INFORMATION CONTACT: Marian Atkins, Field Manager, South Dakota Field Office, 310 Roundup St., Belle Fourche, South Dakota, 605.892.7000, or Lonny Bagley, Field Manager, North Dakota Field Office, 99 23rd Ave., W. Dickinson, North Dakota, 701-227-7700.

Dated: October 16, 2006.
Michael Nash,
Acting Field Manager.

[FR Doc. E6-18010 Filed 10-26-06; 8:45 am]

BILLING CODE 4310-$$-P